DEPARTMENT OF COMMERCE

National Oceanic and Atmospheric Administration

[RTID 0648-XA640]

Pacific Fishery Management Council; Public Meeting

AGENCY: National Marine Fisheries Service (NMFS), National Oceanic and Atmospheric Administration (NOAA), Commerce.

ACTION: Notice of public workshops.

SUMMARY: The Pacific Fishery Management Council's (Council) is conducting four online workshops as part of its Fishery Ecosystem Plan Climate and Communities Initiative. Each workshop will have a regional focus (see Supplementary Information).

DATES: The online workshops will begin at 9 a.m. Pacific Standard Time and continue each day until the conclusion of business for the day. The online workshops will occur on the following days:

• Southern California region: Wednesday-Thursday, December 16-17, 2020

• Northern California region: Wednesday-Thursday, January 13-14, 2021

• Washington region: Wednesday-Thursday, January 20-21, 2021

• Oregon region: Tuesday-Wednesday, February 2-3, 2021

ADDRESSES: These workshops will be held online. Specific meeting information, including directions on how to join the workshops and system requirements will be provided in the meeting announcement on the Pacific Council's website (see www.pcouncil.org). You may send an email to Mr. Kris Kleinschmidt (kris.kleinschmidt@noaa.gov) or contact him at (503) 820-2280, extension 412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The Council is conducting a climate change scenario planning exercise as part of its Fishery Ecosystem Plan Climate and Communities Initiative. The workshops will be open to the public. As part of this exercise, four climate change scenarios were developed in January 2020. Based on these four scenarios, workshop participants will identify specific challenges that could be faced by West Coast fishing communities, regions, and participants. These challenges will then be used to formulate potential solutions and actions that the Council and other stakeholders could take to respond to the effects of climate change in the California Current Ecosystem. The results of these workshops are tentatively scheduled to be reported to the Council in March 2021. Participants will be invited to each workshop, representing a range of West Coast fishery stakeholders within each region.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

(Authority: 16 U.S.C. 1801 et seq.)

Dated: November 23, 2020.
Diane M. DeJames-Daly,
Acting Deputy Director, Office of Sustainable Fisheries, National Marine Fisheries Service.

[FR Doc. 2020-26238 Filed 11-25-20; 8:45 am]

BILLING CODE 3510-22-P